INTERNATIONAL TRADE COMMISSION

[Investigation No. 337-TA-618]

In the Matter of: Certain Computer Systems, Printers and Scanners; Notice of Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ”) initial determination (“ID”) (Order No. 13) granting a joint motion to terminate the captioned investigation based on a settlement agreement.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E. Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On December 3, 2007, the Commission instituted an investigation under section 337 of the Tariff Act of 1930, 19 U.S.C. 1337, based on a complaint filed by Acer Incorporated (“Acer”) of Taipei, Taiwan, as supplemented, alleging a violation of section 337 in the importation, sale for importation, and sale within the United States after importation of certain computer systems, printers and scanners by reason of infringement of certain claims of U.S. Patent Nos. 5,214,761 and 5,581,122. 72 FR 67960 (December 3, 2007). The complainant named Hewlett-Packard Company (“HP”) of Palo Alto, California, as respondent.

On June 6, 2008, Acer and HP jointly moved to terminate the investigation on the basis of a settlement agreement. On June 16, 2008, the Commission investigative attorney filed a response supporting the motion.

On June 17, 2008, the ALJ issued the subject ID granting the joint motion to terminate the investigation based on the settlement agreement. The ALJ found that the motion complied with the requirements of Commission Rule 210.21(b) by including copies of the settlement agreement and a statement that there are no other agreements, written or oral, express or implied, between the parties concerning the subject matter of the investigation. The ALJ concluded, pursuant to Commission Rule 210.50(b)(2), that there is no evidence that termination of this investigation will prejudice the public interest. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: July 7, 2008.
Marilyn R. Abbott,
Secretary to the Commission.

[FR Doc. E8-15721 Filed 7-10-08; 8:45 am]

BILLING CODE 7020-02-P